DEPARTMENT OF ENERGY

Federal Energy Regulatory Commission

Combined Notice of Filings #1

Take notice that the Commission received the following electric corporate filings:

Docket Numbers: EC12-84-000.

Applicants: AER NY-Gen, LLC, Alliance NYGT, LLC.

Description: AER NY-Gen, LLC and Alliance NYGT, LLC submits their Application for Approval under Section 203 of the Federal Power Act and Request for Expedited Consideration.

Filed Date: 3/20/12.

Accession Number: 20120320-5171.

Comments Due: 5 p.m. ET 4/10/12.

Take notice that the Commission received the following electric rate filings:

Docket Numbers: ER12-629-001.

Applicants: Westar Energy, Inc.

Description: Westar Energy, Inc. submits tariff filing per 35: Compliance Filing, Oklahoma Municipal Power Authority Letter Agreement to be effective N/A.

Filed Date: 3/20/12.

Accession Number: 20120320-5163.

Comments Due: 5 p.m. ET 4/10/12.

Docket Numbers: ER12-1296-000.

Applicants: ResCom Energy LLC.

Description: Amended Tariff Filing to be effective 2/3/2012.

Filed Date: 3/20/12.

Accession Number: 20120320-5154.

Comments Due: 5 p.m. ET 4/10/12.

Take notice that the Commission received the following electric securities filings:

Docket Numbers: ES12-23-000.

Applicants: Wolverine Power Supply Cooperative, Inc.

Description: Second Amendment to Application for Authorization of the Assumption of Liabilities and the Issuance of Securities under Section 204 of the Federal Power Act of Wolverine Power Supply Cooperative, Inc.

Filed Date: 3/16/12.

Accession Number: 20120316-5102.

Comments Due: 5 p.m. ET 3/26/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 21, 2012.
Nathaniel J. Davis, Sr.,
Deputy Secretary.

[FR Doc. 2012-7777 Filed 3-30-12; 8:45 am]

BILLING CODE 6717-01-P